DEPARTMENT OF COMMERCE

International Trade Administration

U.S. Strategy to Address Trade-Related Forced Localization Barriers Impacting The U.S. ICT Hardware Manufacturing Industry; Correction

AGENCY: International Trade Administration, U.S. Department of Commerce.

ACTION: Notice; Correction.

SUMMARY: The International Trade Administration published a document in the Federal Register of April 12, 2018, concerning request for comments to support development of a comprehensive strategy to address trade-related forced localization policies, practices, and measures impacting the U.S. information and communications technology (ICT) hardware manufacturing industry. The document contained the incorrect docket number.

DATES: Written comments must be submitted on or before May 14, 2018. Comments must be in English.

FOR FURTHER INFORMATION CONTACT: Cary Ingram; 202-482-2872.

Correction: In the Federal Register of April 12, 2018, in FR Doc. 2018-07584, on page 15786, in the third column under the ADDRESSES section, correct the Docket Number to read: ITA-2018-0001.

Dated: April 13, 2018.
Cary Ingram,
International Trade Specialist.

[FR Doc. 2018-08103 Filed 4-17-18; 8:45 am]

BILLING CODE 3510-DR-P